DEPARTMENT OF LABOR

Notice of Initial Determination Revising the List of Products Requiring Federal Contractor Certification as to Forced/Indentured Child Labor Pursuant to Executive Order 13126

AGENCY: Bureau of International Labor Affairs (ILAB), Labor.

ACTION: Correction. Amendment to Federal Register Volume 75, No. 241.

SUMMARY: The Department of Labor is publishing a correction to the Notice of Initial Determination Revising the List of Products Requiring Federal Contractor Certification as to Forced/Indentured Child Labor Pursuant to Executive Order 13126. The notice was originally published in the Federal Register Volume 75, No. 241 and on the USDOL Web site on December 16, 2010.

Amendments

• On page 78757, remove the sentence from the Product: Charcoal, Country: Brazil section, second column:

“This information indicates that while children previously worked under forced labor conditions in charcoal production, there is no longer a reasonable basis the problem has been significantly reduced if not eliminated.”

Replace with the sentence:

“This information indicates that while children previously worked under forced labor conditions in charcoal production, the problem has been significantly reduced if not eliminated.”

• On page 78757, remove the sentence from the Product: Charcoal, Country: Brazil section, third column:

“These sources, which included the International Labor OrganizaILO, Reporter Brasil, the Citizens' Charcoal Institute (ICC), and the Pastoral Land Commission (CPT), indicate that forced child labor in the production of charcoal has been significantly reduced if not eliminated.”

Replace with the sentence:

“These sources, which included the International Labor Organization, Reporter Brasil, the Citizens' Charcoal Institute (ICC), and the Pastoral Land Commission (CPT), indicate that forced child labor in the production of charcoal has been significantly reduced if not eliminated.”

Agency Contacts

All inquiries regarding the initial determination or this Amendment should be directed to: Brandie Sasser at U.S. Department of Labor, OCFT, Bureau of International Labor Affairs, 200 Constitution Avenue, NW., Room S-5317, Washington, DC 20210; telephone (202) 693-4834 (please note that this is not a toll-free-number) or e-mail: sasser.brandie@dol.gov.

Signed at Washington, DC, this 17th day of December 2010.
Sandra Polaski,
Deputy Undersecretary, Bureau of International Labor Affairs.

[FR Doc. 2010-32227 Filed 12-22-10; 8:45 am]

BILLING CODE 4510-28-P